DEPARTMENT OF TRANSPORTATION

United States Coast Guard

33 CFR Part 164

[USCG-2000-8300]

RIN 2115-AG03

Exemption of Public Vessels Equipped with Electronic Charting and Navigation Systems From Paper Chart Requirements

AGENCY: United States Coast Guard, DOT.

ACTION: Direct final rule.

SUMMARY: The Coast Guard amends its regulations to exclude public vessels owned, leased, or operated by the U.S. Government from certain requirements for navigational charts and publications. The amendments allow public vessels to use electronic charting and navigation systems providing reliable navigation information displays. Amending these regulations provides a platform for the Coast Guard to acquire more information and evaluate these systems as alternatives leading towards the goal of a fully integrated electronic charting and navigation technology into the commercial sector. The Coast Guard is currently preparing an Advanced Notice of Proposed Rulemaking to amend the same regulations allowing commercial vessels to use electronic charting systems.

DATES: This rule is effective July 31, 2001, unless a written adverse comment, or written notice of intent to submit an adverse comment, reaches the Docket Management Facility on or before July 2, 2001. If an adverse comment, or notice of intent to submit an adverse comment, is received, the Coast Guard will withdraw this direct final rule and publish a timely notice of withdrawal in the Federal Register.

ADDRESSES: You may mail your comments to the Docket Management Facility, (USCG-2000-8300) U.S. Department of Transportation, room PL-401, 400 Seventh Street SW., Washington DC 20590-0001, or deliver them to room PL-401 on the Plaza level of the Nassif Building at the same address between 10 a.m. and 5 p.m., Monday through Friday, except Federal holidays. The telephone number is 202-366-9329.

The Docket Management Facility maintains the public docket for this rulemaking. Comments and documents, as indicated in this preamble, will become part of this docket and will be available for inspection or copying at room PL-401 on the Plaza level of the Nassif Building at the same address between 10 a.m. and 5 p.m., Monday through Friday, except Federal holidays. You may also access this docket on the Internet at http://dms.dot.gov.

FOR FURTHER INFORMATION CONTACT: For questions regarding this rule, contact David Beach, Office of Vessel Traffic Management, Coast Guard, telephone 202-267-6623. For questions on viewing, or submitting material to, the docket, contact Dorothy Beard, Chief, Dockets, Department of Transportation, telephone 202-366-9329.

SUPPLEMENTARY INFORMATION:

Request for Comments

The Coast Guard encourages interested persons to participate in this rulemaking by submitting written data, views, or arguments. Persons submitting comments should include their names and addresses, identify this rulemaking [USCG 2000-8300] and the specific section of this document to which each comment applies, and give the reason for each comment. Please submit all comments and attachments in an unbound format, no larger than 8½ by 11 inches, suitable for copying and electronic filing to the Docket Management Facility at the address under ADDRESSES. You may submit your comments and material by mail, hand delivery, fax, or electronic means to the Docket Management Facility at the address under ADDRESSES; but please submit your comments and material by only one means. If you submit them by mail and would like to know they were received, please enclose a stamped, self-addressed postcard or envelope. The Coast Guard will consider all comments and material received during the comment period.

Regulatory Information

The Coast Guard is publishing a direct final rule, the procedures for which appear in 33 CFR 1.05-55, because it anticipates no adverse comment. If no adverse comment or written notice of intent to submit an adverse comment is received within the specified comment period, this rule will become effective as stated in the DATES section. In that case, approximately 30 days before the effective date, the Coast Guard will publish a document in the Federal Register stating that no adverse comment was received and confirming that this rule will become effective as scheduled. However, if the Coast Guard receives a written adverse comment or written notice of intent to submit an adverse comment, it will publish a document in the Federal Register announcing withdrawal of all or part of this direct final rule. If an adverse comment applies to only part of this rule and it is possible to remove that part without defeating the purpose of this rule, the Coast Guard may adopt as final those parts of this rule on which no adverse comment was received. The part of this rule that was the subject of an adverse comment will be withdrawn. If the Coast Guard decides to proceed with a rulemaking following receipt of an adverse comment, the Coast Guard will publish a separate Notice of Proposed Rulemaking (NPRM) and provide a new opportunity for comment.

A comment is considered “adverse” if the comment explains why this rule would be inappropriate, including a challenge to the rule's underlying premise or approach, or why it would be ineffective or unacceptable without a change. The Coast Guard is also, at present, drafting a similar advanced notice of proposed rulemaking to allow commercial vessels to use electronic navigation systems. We encourage public participation when that rulemaking is published in the near future.

Background and Purpose

This rulemaking would exclude public vessels from the chart and publication requirements in 33 CFR 164.11, 33 CFR 164.30, and 33 CFR 164.33. This exclusion would only apply to public vessels equipped with an electronic charting and navigation system that meets the standards approved by the Federal agency exercising operational control of the vessel.

The United States based the navigation and safety regulations found in Title 33 Code of Federal Regulations on Chapter 5 of the International Convention for Safety of Life at Sea (SOLAS). SOLAS exempts ships of war from its safety of navigation provisions. Nevertheless, at the time the Coast Guard drafted the existing navigation safety regulations, exemptions for U.S. warships or other vessels being utilized in exclusive, noncommercial government service were not addressed. Further chart carriage requirements were not considered because electronic charting did not exist and no alternatives to paper documents were contemplated.

The intent of the rule is to enable Federal agencies to utilize electronic charting and navigation systems as an alternative to requiring paper nautical charts and publications, when the public vessel is equipped with an electronic system and backup.

The Coast Guard realizes that electronic charting and navigation systems are increasingly predominant in the maritime industry. As a result, commercial shipping industries have expressed their desire to incorporate this new technology into their operations.

Today, commercial shipping companies that wish to use an electronic charting and navigation system as their primary means of navigation on international voyages must meet an International Maritime Organization (IMO) standard. The term “ECDIS” (Electronic Chart Display and Information System) describes the IMO compliant system which specifies technical system requirements including the use of S-57 Vector format ENC (Electronic Navigation Chart) chart data produced under the authority of a government hydrographic office.

Currently, the Coast Guard, the National Oceanographic and Atmospheric Agency (NOAA) and the National Imagery and Mapping Agency (NIMA) are working together to develop electronic chart portfolios and evaluate how these charts interrelate with commercially available electronic charting and navigation systems. The Coast Guard is also evaluating commercially available electronic charting and navigation systems with the expectation that it may assist in establishing interim regulatory standards for electronic charting pending the wider availability of IMO and International Hydrographic Organization (IHO) compliant electronic charts. This rule allows the Coast Guard to gather and analyze operational data related to using these systems as installed on a variety of vessels.

The Coast Guard realizes the expense that commercial shipping companies will incur in attempting to meet the IMO ECDIS standard. Our evaluation is an attempt to afford the commercial industries a provisional measure that may allow marine industries to use current electronic charting and navigation systems with the intention that commercial and public vessels eventually meet the IMO ECDIS standard.

Public vessel operations already include the additional precautions necessary to ensure the safety of navigation during these evaluations and trials (i.e. navigation standards, greater available vessel manning and navigation details set when public vessels enter ports). The Coast Guard will also use the lessons learned, findings, and other experiences acquired through our evaluation of electronic charting and navigation systems to develop the regulation allowing the use of an electronic charting and navigation system by commercial vessels.

The Coast Guard is taking a leadership position with assisting commercial shippers in exploring the use of electronic charting and navigation systems as their primary means of navigation in U.S. waters. The information we acquire from use of such systems on public vessels will support the goal of fully integrated electronic charting and navigation technology into the commercial shipping sector.

Discussion of Rule

At present, sections 33 CFR 164.11 entitled “Navigation under way; General”, 33 CFR 164.30 entitled “Charts, Publications, and Equipment, General”, and 33 CFR 164.33 entitled “Charts and Publications” require that all vessels have printed marine charts that are published by National Ocean Service, the U.S. Army Corps of Engineers, or a river authority, and plot each fix on those charts. The charts must be currently corrected at a large enough scale, and have enough detail to make safe navigation of the area possible. This proposed rule would amend the “Applicability” section (33 CFR 164.01) to offer an alternative to certain U.S. public vessels from the printed nautical charts and publications requirement. The alternative means of compliance would only apply to vessels using an electronic charting and navigation system, which is approved by the Federal agency exercising operational control of the vessel.

Regulatory Evaluation

This direct final rule is not a significant regulatory action under section 3(f) of Executive Order 12866 and does not require an assessment of potential costs and benefits under section 6(a)(3) of that Order. The rule has not been reviewed by the Office of Management and Budget under this Order. It is not significant under the regulatory policies and procedures of the Department of Transportation (DOT)(44 FR 11040; February 26, l979). The Coast Guard expects the economic impact of this rule to be so minimal that a full Regulatory Evaluation under paragraph 10e of the regulatory policies and procedures of DOT is unnecessary.

This direct final rule would exclude public vessels from certain requirements for paper navigational charts and publications that are found in 33 CFR Part 164 (Sections 164.11, 164.30, and 164.33). Agencies will be allowed the flexibility of using either electronic charts or the currently required paper charts. Consequently, this rule would not impose any mandatory costs on the agencies it involves.

This direct final rule would apply to warships and other vessels owned or operated by the United States Government and used only in government noncommercial service when equipped with an approved electronic system.

The Coast Guard does not expect using electronic charts and navigation systems in place of paper charts to adversely impact maritime safety.

Small Entities

Under the Regulatory Flexibility Act (5 U.S.C. 601 et seq.), the Coast Guard considers whether this rule will have a significant economic impact on a substantial number of small entities. “Small entities” include small businesses, not-for-profit organizations that are independently owned and operated and are not dominant in their fields, and governmental jurisdictions with populations of less than 50,000.

The Coast Guard expects that this rule would have a minimal economic impact on small entities. The Coast Guard does not believe that vessels affected by this rule are owned or operated by small entities, but by the federal government. In addition, the acceptable paper charts currently authorized are not printed or produced by small entities. Therefore, the Coast Guard believes that few, if any, small entities would be affected either directly or indirectly by this rule.

Therefore, the Coast Guard certifies under 5 U.S.C. 605(b) that this rule will not have a significant economic impact on a substantial number of small entities. Comments submitted in response to this finding will be evaluated under the criteria in the “Regulatory Information” section of this preamble.

Collection of Information

This rule does not provide for a collection of information under the Paperwork Reduction Act of 1995 (44 U.S.C. 3501 et seq.).

Federalism

The Coast Guard has analyzed this rule under the principles and criteria contained in Executive Order 13132, and has determined that this rule does not have sufficient implications for federalism to warrant the preparation of a Federalism Assessment. This rulemaking only applies to Federal Government owned or operated public vessels. Therefore, since States may not regulate such vessels, a Federal Assessment is unnecessary.

Environment

The Coast Guard considered the environmental impact of this rule and concluded that, under figure 2-1, paragraph (34)(d) of Commandant Instruction M16475.lC, this rule is categorically excluded from further environmental documentation. The Coast Guard believes this rule would have no significant effect on the environment or any effect on regulations involving the environment. The Coast Guard does recognize this rule may even have a positive effect on the environment by minimizing the risk of environmental harm resulting from vessel groundings. A “Categorical Exclusion Determination” is available in the docket for inspection or copying where indicated under ADDRESSES.

List of Subjects in 33 CFR Part 164

Marine safety, Navigation.

For the reasons discussed in the preamble, the Coast Guard amends 33 CFR part 164 as follows:

PART 164—NAVIGATION SAFETY REGULATIONS

1. The Authority citation for part 164 continues to read as follows:

Authority: 33 U.S.C. 1223, 1231; 46 U.S.C. 2103, 3703; 49 CFR 1.46. Sec. 164.13 also issued under 46 U.S.C. 8502. Sec. 164.61 also issued under 46 U.S.C. 6101.

2. In § 164.01, revise paragraph (a), and add paragraph (c) to read as follows:

§ 164.01 Applicability.

(a) This part (except as specifically limited by this section) applies to each self-propelled vessel of 1600 or more gross tons (except as provided in paragraph (c) of this section, or for foreign vessels described in § 164.02) when it is operating in the navigable waters of the United States except the St. Lawrence Seaway.

(b) * * *

(c) Provisions of §§ 164.11(a)(2) and (c), 164.30, and 164.33 do not apply to warships or other vessels owned, leased, or operated by the United States Government and used only in government noncommercial service when these vessels are equipped with electronic navigation systems that have met the applicable agency regulations regarding navigation safety.

Dated: January 19, 2001.
R.C. North,
Rear Admiral, U.S. Coast Guard, Assistant Commandant for Marine Safety and Environmental Protection.

[FR Doc. 01-10834 Filed 5-1-01; 8:45 am]

BILLING CODE 4910-15-P